DEPARTMENT OF ENERGY

Federal Energy Regulatory Commission

Combined Notice of Filings #1

August 19, 2005.

Take notice that the Commission received the following electric rate filings:

Docket Numbers: ER98-1466-003; ER00-814-004; ER01-2067-004; ER01-2068-004; ER01-332-003; ER00-2924-004; ER02-1638-003.

Applicants: Allegheny Power; Allegheny Energy Supply Company; Allegheny Energy Supply Gleason Generating Facility, LLC; Allegheny Energy Supply Hunlock Creek, LLC; Green Valley Hydro, LLC; Buchanan Generation, LLC.

Description: The above-referenced applicants submit their combined triennial market power report and revised tariff sheets.

Filed Date: 08/11/2005.

Accession Number: 20050818-0171.

Comment Date: 5 p.m. Eastern Time on Thursday, September 1, 2005.

Docket Numbers: ER01-1403-004; ER01-2968-005; ER01-845-004.

Applicants: FirstEnergy Operating Companies; FirstEnergy Solutions Corp.; FirstEnergy Generation Corp.

Description: The above-reference FirstEnergy Companies submit revised tariff sheets to their market-based rate power sales tariffs, in compliance with the Commission's letter order issued 7/14/05.

Filed Date: 08/11/2005.

Accession Number: 20050817-0042.

Comment Date: 5 p.m. Eastern Time on Thursday, September 1, 2005.

Docket Numbers: ER03-382-003; ER00-1749-002; ER00-2508-001; ER99-1801-007; ER01-3035-005; ER02-1762-003; ER01-852-004; ER02-2453-002; ER02-2451-002; ER02-2450-002; ER02-2452-002; ER02-2449-002.

Applicants: Reliant Energy Electric Solutions, LLC; Reliant Energy Maryland Holdings, LLC and Reliant Energy New Jersey Holdings, LLC; Reliant Energy Mid-Atlantic Power Holdings, LLC; Reliant Energy Services, Inc.; Reliant Energy Seward, LLC; Reliant Energy Solutions East, LLC; Twelvepole Creek, LLC; Reliant Energy Coolwater, Inc.; Reliant Energy Ellwood, Inc.; Reliant Energy Etiwanda, Inc.; Reliant Energy Mandalay, Inc.; Reliant Energy Ormond Beach, Inc.

Description: The above-referenced applicants submit amended tariff sheets revised to correct the effective date of the sheets filed by the applicants on 6/6/2005.

Filed Date: 08/11/2005.

Accession Number: 20050812-0183.

Comment Date: 5 p.m. Eastern Time on Friday, September 1, 2005.

Docket Numbers: ER04-372-004.

Applicants: Metropolitan Edison Company; Pennsylvania Electric Company.

Description: Metropolitan Edison Company and Pennsylvania Electric Company submit Substitute Original Sheet No. 1 to their FERC Electric Tariff, Original Volume No.1, in compliance with the Commission's letter order issued 7/14/05.

Filed Date: 08/11/2005.

Accession Number: 20050817-0039.

Comment Date: 5 p.m. Eastern Time on Thursday, September 1, 2005.

Docket Numbers: ER04-434-004.

Applicants: Southwest Power Pool, Inc.

Description: Southwest Power Pool, Inc. submits revised tariff sheets to its Open Access Transmission Tariff incorporating revisions to the Large Generator Interconnection Procedures and Large Generator Interconnection Agreement in compliance with Order 2003-C.

Filed Date: 08/12/2005.

Accession Number: 20050817-0045.

Comment Date: 5 p.m. Eastern Time on Friday, September 2, 2005.

Docket Numbers: ER04-1147-001.

Applicants: Florida Power Corporation.

Description: Florida Power Corporation d/b/a Progress Energy Florida, Inc. submits amended cost support for its rate schedule providing for cost-based power sales to Reedy Creek Improvement District, Rate Schedule No. 190.

Filed Date: 08/11/2005.

Accession Number: 20050817-0038.

Comment Date: 5 p.m. Eastern Time on Thursday, September 1, 2005.

Docket Numbers: ER05-1150-002.

Applicants: Duke Energy Corporation.

Description: Duke Energy Corporation, on behalf of Duke Electric Transmission (collectively, Duke) submits additional supporting information and an errata to its 6/26/05 filing, as amended on 7/13/05, of an amendment to the Network Integration Transmission Service Agreement with New Horizon Electric Cooperative, Inc., Service Agreement No. 208 under Duke's Open Access Transmission Tariff.

Filed Date: 08/12/2005.

Accession Number: 20050817-0044.

Comment Date: 5 p.m. Eastern Time on Friday, September 2, 2005.

Docket Numbers: ER05-1341-000.

Applicants: Maine Public Service Company.

Description: Main Public Service Company submits revisions to its Open Access Transmission Tariff incorporating Order 2003-C's, revisions to the Commission's pro forma Standard Large Generator Interconnection Procedures and Standard Large Generator Interconnection Agreement.

Filed Date: 08/12/2005.

Accession Number: 20050818-0002.

Comment Date: 5 p.m. Eastern Time on Friday, September 2, 2005.

Docket Numbers: ER05-876-002.

Applicants: Direct Energy Services, LLC.

Description: Direct Energy Services, LLC submits a revised tariff sheet designated as Rate Schedule FERC 1, First Revised Sheet 4, in compliance with the Commission's order issued 7/20/05 in Docket Nos. ER05-876-000 and 001.

Filed Date: 08/12/2005.

Accession Number: 20050817-0043.

Comment Date: 5 p.m. Eastern Time on Friday, September 2, 2005.

Docket Numbers: ER05-941-002.

Applicants: New York Independent System Operator, Inc.

Description: New York Independent System Operator Inc. submitted a compliance filing pursuant to the Commission's order issued 7/1/05 in Docket No. ER05-941-000.

Filed Date: 08/16/2005.

Accession Number: 20050816-5063.

Comment Date: 5 p.m. Eastern Time on Tuesday, August 30, 2005.

Docket Numbers: ER05-974-001.

Applicants: Cleveland Electric Illuminating Company; Ohio Edison Company; Pennsylvania Power Company; Toledo Edison Company.

Description: The above-referenced FirstEnergy Operating Companies submit Substitute Original Sheet No.16 to FirstEnergy Service Company FERC Electric Tariff, Second Revised Volume No. 2, in compliance with the Commission's order issued 7/14/05 in Docket No. ER05-974-000.

Filed Date: 08/11/2005.

Accession Number: 20050817-0040.

Comment Date: 5 p.m. Eastern Time on Thursday, September 1, 2005.

Docket Numbers: ER05-975-001.

Applicants: FirstEnergy Generation Corp.

Description: FirstEnergy Generation Corp. submits Substitute Original Sheet No. 1 to FERC Electric Tariff, First Revised Volume No.1 in compliance with the Commission's letter order issued 7/14/05 in Docket No. ER05-9975-000.

Filed Date: 08/11/2005.

Accession Number: 20050817-0041.

Comment Date: 5 p.m. Eastern Time on Thursday, September 1, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-4669 Filed 8-25-05; 8:45 a.m.]

BILLING CODE 6717-01-P